DEPARTMENT OF HEALTH AND HUMAN SERVICES

Administration for Strategic Preparedness and Response

Single Source Cooperative Agreement to the National Emerging Special Pathogens Training and Education Center

AGENCY: Administration for Strategic Preparedness and Response (ASPR), U.S. Department of Health and Human Services (HHS).

ACTION: Notice.

SUMMARY: ASPR intends to provide a five-year single-source Cooperative Agreement (CoAg) to the National Emerging Special Pathogens Training and Education Center (NETEC). The CoAg will enable NETEC to continue to lead special pathogen preparedness and response for currently active or emergent High Consequence Infectious Disease (HCID) threats. The total proposed cost of the single-source CoAg is $7,730,000 for Fiscal Year (FY) 2025. Supporting collaboration between the U.S. Public Health Service and public and private community health programs and agencies to respond to health emergencies is an authority provided to HHS under section 311(c) of the Public Health Service Act.

DATES: The five-year period of performance is from September 30, 2025, through September 29, 2030. The FY 2025 budget period is September 30, 2025, through September 29, 2026. FY 2025 award amount: $7,730,000.

FOR FURTHER INFORMATION CONTACT: Jennifer Hannah; Director, Office of Health Care Readiness, (202) 245-0722; Jennifer.Hannah@hhs.gov.

SUPPLEMENTARY INFORMATION: The Office of Health Care Readiness (OHCR) is the program office for this CoAg.

Single Source Justification

This National Special Pathogen System (NSPS) is a national, tiered system-of-care—similar to the National Trauma Care System—with four facility levels that have increasing capabilities to care for patients that have suspected or confirmed HCIDs. NETEC is a consortium consisting of Emory University, the Nebraska Medicine/University of Nebraska Medical Center, and the New York City (NYC) Health + Hospitals/Bellevue. Congressionally designated as the NSPS Coordinating Body, NETEC has served as a special pathogen response advisor to ASPR and the United States Government for over a decade. In this role, NETEC leads 13 Regional Emerging Special Pathogen Treatment Centers (RESPTCs), or Level 1 facilities, to act as regional hubs for special pathogen readiness in the United States (U.S.). NETEC is the architect of the NSPS System of Care Strategy and implementation plan and has brokered relationships with hundreds of health care partners across the U.S. and globally to advance special pathogen preparedness and response capabilities. Due to the complexity and scale of this role, the level of technical and clinical subject matter expertise needed, and the unique capabilities required, NETEC is the only entity that can serve in this role.

During recent outbreaks including avian influenza, Argentine and Bolivian Hemorrhagic Fever, and Nipah Virus, NETEC provided training materials, situational awareness, technical assistance, and recommendations on patient care to relevant health care entities, enabling high-quality, lifesaving special pathogen care for patients. NETEC directly supports state-level capabilities for special pathogen readiness, partnering with state public health departments and providing consultative services to help strengthen private and public sector health care partners. In FY 2024 alone, NETEC addressed 74 requests for consultation and provided targeted support services to entities like the South Dakota Department of Public Health, which worked with NETEC to revise their concept of operations for responding to HCID threats and facilitating cross-jurisdictional exercises with neighboring states in the region. This award will enable NETEC to build on these capabilities and strengthen the NSPS to build resilience against HCID threats, including avian influenza.

The timing of this award requires a single-source of funding for NETEC, as this award is intended to enable NETEC to continue to lead special pathogen preparedness and response for currently active or emergent HCID threats. The NSPS serves a critical role in streamlining special pathogen preparedness and response, ultimately saving patient lives and avoiding preventable outbreaks. For example, when a patient in Iowa was diagnosed with Lassa Fever, all components of the NSPS quickly activated to prevent a potential outbreak in the U.S. NETEC coordinated with five health care facilities, including RESPTCs, for a timely and effective response, including managing infection control, preventing secondary transmission among 180 close contacts, and maintaining situational awareness across all response partners. This rapid and coordinated response resulted in zero additional infections. An interruption or delay will disrupt NETEC's ability to carry out critical activities needed to prevent and mitigate HCID threats. Through this award, ASPR will collaborate with NETEC to continue to build capabilities and capacity to protect the health of the nation, mitigate impacts of current and emerging HCIDs, and save lives.

John Knox,
Principal Deputy Assistant Secretary, Administration for Strategic Preparedness and Response.

[FR Doc. 2025-18825 Filed 9-26-25; 8:45 am]

BILLING CODE 4150-37-P